DEPARTMENT OF THE INTERIOR

National Park Service

[NPS-WASO-NAGPRA-22929; PPWOCRADN0-PCU00RP14.R50000]

Notice of Intent To Repatriate Cultural Items: Museum of Natural History and Planetarium, Roger Williams Park, Providence, RI

AGENCY: National Park Service, Interior.

ACTION: Notice.

SUMMARY: The Museum of Natural History and Planetarium, Roger Williams Park, in consultation with the appropriate Indian tribes or Native Hawaiian organizations, has determined that the cultural items listed in this notice meet the definition of unassociated funerary objects. Lineal descendants or representatives of any Indian tribe or Native Hawaiian organization not identified in this notice that wish to claim these cultural items should submit a written request to the Museum of Natural History and Planetarium, Roger Williams Park. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Museum of Natural History and Planetarium, Roger Williams Park, at the address in this notice by April 14, 2017.

ADDRESSES: Michael W. Kieron, Museum of Natural History and Planetarium, Roger Williams Park, 100 Elmwood Avenue, Providence, RI 02907, telephone (401) 680-7248, email m.kieron@musnathist.com.

SUPPLEMENTARY INFORMATION: Notice is here given in accordance with the Native American Graves Protection and Repatriation Act (NAGPRA), 25 U.S.C. 3005, of the intent to repatriate cultural items under the control of the Museum of Natural History and Planetarium, Roger Williams Park, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the late 1920s and early 1930s, six cultural items were removed from the Mix Cave site (PU 93) in Pulaski County, MO, by Mr. and Mrs. Edward H. Nadeau. The six unassociated funerary objects are 5 potsherds and 1 worked white-tailed deer ulna. The objects were donated to the Museum of Natural History and Planetarium, Roger Williams Park, by Mr. and Mrs. Nadeau on January 23, 1933. The objects are all labeled “Mix Cave, Pulaski Co., Mo.” They were given the catalog number E2706 and the accession number 8918. The objects were part of a collection of 50 lots of American Indian objects and geological specimens collected in the 1920s by the Nadeaus. No other records related to this donation have been located.

Following an examination by representatives of The Osage Nation (previously listed as the Osage Tribe) in January 2016, the Osage Nation and the museum concurred that the objects are unassociated funerary objects. The Osage Nation considers the Mix Cave site (PU 93) a sacred site and a burial located on Osage ancestral lands.

Determinations Made by the Museum of Natural History and Planetarium, Roger Williams Park

Officials of the Museum of Natural History and Planetarium, Roger Williams Park, have determined that:

• Pursuant to 25 U.S.C. 3001(3)(B), the 6 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Osage Nation (previously listed as the Osage Tribe).

Additional Requestors and Disposition

Lineal descendants or representatives of any Indian tribe or Native Hawaiian organization not identified in this notice that wish to claim these cultural items should submit a written request with information in support of the claim to Michael W. Kieron, Museum of Natural History and Planetarium, Roger Williams Park, 100 Elmwood Avenue, Providence, RI 02907, telephone (401) 680-7248, email m.kieron@musnathist.com by April 14, 2017. After that date, if no additional claimants have come forward, transfer of control of the unassociated funerary objects to The Osage Nation (previously listed as the Osage Tribe) may proceed.

The Museum of Natural History and Planetarium, Roger Williams Park, is responsible for notifying The Osage Nation (previously listed as the Osage Tribe) that this notice has been published.

Dated: February 14, 2017.
Melanie O'Brien,
Manager, National NAGPRA Program.

[FR Doc. 2017-05094 Filed 3-14-17; 8:45 am]

BILLING CODE 4312-52-P